DEPARTMENT OF TRANSPORTATION

ITS Joint Program Office; IntelliDrive℠ Mobility and Environment Workshop; Notice of Workshop

AGENCY: Research and Innovative Technology Administration, U.S. Department of Transportation.

ACTION: Notice.

The U.S. Department of Transportation ITS Joint Program Office (ITS JPO) will host a free two-day public workshop to discuss the IntelliDrive℠ Real-Time Data Capture and Management and Dynamic Mobility Applications (DMA) research programs on November 30 and December 1, 2010 at the George Mason University Arlington Campus. The goal of this listening session is to inform and communicate with stakeholders interested in the data capture and dynamic mobility components of the IntelliDrive program. IntelliDrive is a multimodal research initiative that is based on wireless Vehicle to Vehicle, (V2V), Vehicle to Infrastructure (V2I) communications which will improve traffic safety and mobility while helping the environment.

The public meeting will feature background on the IntelliDrive Real-Time Data Capture and Management and DMA programs; information about the IntelliDrive program's concepts, organization, schedule, projects, procurements, and products; and how the IntelliDrive program plans to engage stakeholders in the future. Additional discussions will include cross-cutting policy issues; details of the IntelliDrive program's open data environment and its open source mobility applications; results of a recent request for information where stakeholders submitted the top dynamic mobility application concepts; information about upcoming procurements and other opportunities to participate in the development of IntelliDrive; and an opportunity to discuss how improved mobility and efficient travel can support the environment and mitigate pollution.

Please contact Nicole Oliphant at noliphant@itsa.org by November 26, 2010 to complete your free registration. Additional information, including meeting times and agenda details may be found at the ITS JPO Web site: http://www.its.dot.gov/press/announcement/mobility_workshop.htm.

Issued in Washington, DC, on the 21st day of October 2010.
John Augustine,
Managing Director, ITS Joint Program Office.

[FR Doc. 2010-27256 Filed 10-27-10; 8:45 am]

BILLING CODE 4910-HY-P